DEPARTMENT OF COMMERCE

National Oceanic and Atmospheric Administration

[RTID 0648-XA607]

Mid-Atlantic Fishery Management Council (MAFMC); Public Meetings

AGENCY: National Marine Fisheries Service (NMFS), National Oceanic and Atmospheric Administration (NOAA), Commerce.

ACTION: Notice; public meetings.

SUMMARY: The Mid-Atlantic Fishery Management Council (Council) will hold two online workshops for a project using video recordings to examine recreational fishing effort originating from Ocean City, MD.

DATES: The meetings will be held on Tuesday November 17, 2020 and Tuesday December 1, 2020, both from 5:30 p.m. to 8 p.m. For agenda details, see SUPPLEMENTARY INFORMATION.

ADDRESSES: The meetings will be held via online webinar, with connection information available via the Council's website at www.mafmc.org.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meetings is to develop methods for using video to examine the recreational fishing effort in ocean waters that departs from Ocean City, MD.

Special Accommodations

The meetings are physically accessible to people with disabilities. Requests for sign language interpretation or other auxiliary aid should be directed to M. Jan Saunders, (302) 526-5251, at least 5 days prior to any meeting date.

Authority: 16 U.S.C. 1801 et seq.

Dated: October 28, 2020.
Tracey L. Thompson,
Acting Deputy Director, Office of Sustainable Fisheries, National Marine Fisheries Service.

[FR Doc. 2020-24215 Filed 10-30-20; 8:45 am]

BILLING CODE 3510-22-P